SURFACE TRANSPORTATION BOARD

[Docket No. FD 35999]

Olympia & Belmore Railroad, Inc.—Lease and Operation Exemption Including Interchange Commitment—BNSF Railway Company

Olympia & Belmore Railroad, Inc. (OBRR), a noncarrier, has filed a verified notice of exemption under 49 CFR 1150.31 to lease from BNSF Railway Company (BNSF), and to operate, approximately 13.06 miles of rail consisting of the following: (1) 5.50 miles of track between milepost 9.07 near Olympia, Wa., and milepost 14.57 near Belmore, Wa., in Thurston County, Wa.; (2) incidental overhead trackage rights over approximately 7.56 miles of Union Pacific Railroad Company track between East Olympia, Wa., and Olympia, Wa.; and (3) joint use of terminal trackage at Olympia, Wa., pursuant to a lease agreement (Agreement) dated February 12, 2016.¹

¹ OBRR filed a confidential version of the Agreement with its notice of exemption to be kept confidential by the Board under 49 CFR 1104.14(a) without need for the filing of an accompanying motion for protective order under 49 CFR 1104.14(b). OBRR states that exhibits to the Agreement that do not relate to or affect the interchange commitment have been omitted.

This transaction is related to a concurrently filed verified notice of exemption in Genesee & Wyoming Inc.—Continuance in Control Exemption—Olympia & Belmore Railroad, Docket No. FD 36000, in which Genesee & Wyoming Inc. (GWI) seeks Board approval to continue in control of OBRR under 49 CFR 1180.2(d)(2), upon OBRR's becoming a Class III rail carrier.

As required under 49 CFR 1150.43(h)(1), OBRR has disclosed in its verified notice that the subject Agreement contains an interchange commitment that affects interchange with carriers other than BNSF at the interchange point of East Olympia, Wa. OBRR has provided additional information regarding the interchange commitment as required by 49 CFR 1150.43(h).

OBRR certifies that the projected annual revenues do not exceed those that would qualify it as a Class III rail carrier and would not exceed $5 million.

The transaction may be consummated on or after March 13, 2016 (30 days after the notice of exemption was filed). If the verified notice contains false or misleading information, the exemption is void ab initio. Petitions to revoke the exemption under 49 U.S.C. 10502(d) may be filed at any time. The filing of a petition to revoke will not automatically stay the effectiveness of the exemption. Petitions to stay must be filed no later than March 4, 2016 (at least seven days before the exemption becomes effective).

An original and 10 copies of all pleadings, referring to Docket No. FD 35999, must be filed with the Surface Transportation Board, 395 E Street SW., Washington, DC 20423-0001. In addition, a copy of each pleading must be served on applicant's representative, Eric M. Hocky, Clark Hill, PLC, One Commerce Square, 2005 Market Street, Suite 1000, Philadelphia, PA 19103.

Board decisions and notices are available on our Web site at “WWW.STB.DOT.GOV”.

Decided: February 23, 2016.
By the Board, Rachel D. Campbell, Director, Office of Proceedings.
Tia Delano,
Clearance Clerk.

[FR Doc. 2016-04139 Filed 2-25-16; 8:45 am]

BILLING CODE 4915-01-P